DEPARTMENT OF THE INTERIOR

Bureau of Land Management

[CA-670-02-1610-JP-064B]

Notice of Availability of a Draft Amendment and Associated Environmental Assessment to the California Desert Conservation Area Plan for Off-Road Vehicle Trail (Route of Travel) Designations in the Western Colorado Desert (WECO) Portion of Imperial County, CA

AGENCY: Department of Interior, Bureau of Land Management, California Desert District.

ACTION: Notice of availability of a draft amendment and associated environmental assessment to the California Desert Conservation Area Plan for off-road vehicle trail (route of travel) designations in the Western Colorado Desert (WECO) portion of Imperial County, California.

DATES: Written comments on the Draft Amendment and the Environmental Assessment will be accepted if postmarked within 45 calendar days from the date this Notice of Availability is published in the Federal Register by the Bureau of Land Management. Instructions for submitting comments are included below under Supplemental Information.

SUMMARY: The draft plan amendment will establish or revise designations of trails (routes of travel) for off-road vehicles in accordance with Part 43 Code of Federal Regulations Subpart 8342. Trails (routes of travel) for inclusion in the State of California's Discovery Trail System and the route to be used as a segment of the Juan Bautista de Anza National Historic Trail within the Western Colorado Desert (WECO) project area will be identified. The proposals will pertain to public lands addressed by the California Desert Conservation Area Plan in the WECO portion of Imperial County that lie west of the Union Pacific Railroad and the Chocolate Mountain Gunnery Range (excluding the Imperial Sand Dunes and the western portion of the California Desert Conservation Area in San Diego County, California).

ADDRESSES: Copies of the document are being mailed to those who requested it. The document is available for review on line at http://www.ca.blm.gov/elcentro and is also available in a hard copy or a CD rom format at the following addresses and telephone numbers: Bureau of Land Management, El Centro Field Office, 1661 South 4th Street, El Centro, CA 92243, (760) 337-4400.

FOR FURTHER INFORMATION: Arnold Schoeck, Bureau of Land Management, 1661 South 4th Street, El Centro, CA 92243; (760) 337-4441.

SUPPLEMENTARY INFORMATION: The Bureau of Land Management published in the Federal Register on March 25, 2002, the Notice of Intent to prepare an Environmental Assessment and to make a Plan Amendment to the California Desert Conservation Area Plan by making off-road vehicle trail (route of travel) designations in the Western Colorado Desert portion of Imperial County. The public scoping period for the project began March 25, 2002 and the comment period until has been expanded until October 7, 2002.

The publication of the Environmental Assessment will start a 45-day public comment period for the proposed designations and alternative plan amendments described in the environmental assessment. Public meetings and their locations for the public to make comments at will be announced in the local media and on the El Centro Field Office's Web site (http://www.ca.blm.gov/elcentro).

The public is invited to submit comments on the alternatives to the plan amendment and the Environmental Assessment. Written comments should be sent to the above address and must be post marked by December 2, 2002. E-mail comments may be sent to caecweco@ca.blm.gov but must be received by the close of business on December 2, 2002. Delays caused by the Internet, servers, and other related computer problems will not be cause for a time extension.

Comments, including names and addresses of respondents, will be available for public review at the El Centro Field Office during normal working hours (7:45 a.m. to 4:30 p.m., except holidays), and may be published as part of the Decision Record or other related documents. Individuals may request confidentiality. If you wish to withhold your name or address from public review or from disclosure under the Freedom of Information Act, you must state this promptly at the beginning of your comments. Such requests will be honored to the extent allowed by law. All submissions from organizations or businesses will be made available for public inspection in their entirety.

After the public comment period ends, (1) a Notice of the Proposed Decision, (2) the effective date for the proposed decision, and (3) the beginning of a 30 day protest period will be published. The procedures for protesting a decision will be described at that time.

Greg Thomsen,
Field Manager, El Centro Field Office.

[FR Doc. 02-25949 Filed 10-17-02; 8:45 am]

BILLING CODE 4310-40-P